DEPARTMENT OF ENERGY

Federal Energy Regulatory Commission

[Docket Nos. CP23-516-000; CP23-516-001]

East Tennessee Natural Gas, LLC; Notice of Availability of the Final Environmental Impact Statement for the Proposed Ridgeline Expansion Project

The staff of the Federal Energy Regulatory Commission (FERC or Commission) has prepared a final environmental impact statement (EIS) for the Ridgeline Expansion Project (Project), proposed by East Tennessee Natural Gas, LLC (East Tennessee) in the above-referenced docket. East Tennessee requests authorization to construct and operate 122.2 miles of 30-inch-diameter natural gas pipeline and associated facilities in Trousdale, Smith, Jackson, Putnam, Overton, Fentress, Morgan, and Roane Counties, Tennessee. The purpose of the Project is to provide about 300,000 dekatherms per day of new firm natural gas transportation capacity and up to 95,000 dekatherms of customized delivery service (i.e., peaking service) from multiple providers to the site of Tennessee Valley Authority's Kingston Fossil Plant.

The final EIS assesses the potential environmental effects of the construction and operation of the Project in accordance with the requirements of the National Environmental Policy Act (NEPA). The FERC staff concludes that approval of the proposed Project would have some limited adverse environmental effects; however, with implementation of East Tennessee's impact avoidance, minimization, and mitigation measures, as well as adherence to the mitigation measures recommended in the EIS, these effects would be avoided, mitigated, or reduced to less-than-significant levels.

The U.S. Army Corps of Engineers (USACE), the U.S. Environmental Protection Agency, the U.S. Fish and Wildlife Service, and the National Park Service participated as cooperating agencies in the preparation of the EIS. Cooperating agencies have jurisdiction by law or special expertise with respect to resources potentially affected by the proposal and participate in the NEPA analysis. The USACE will adopt and use the EIS to consider the issuance of an Individual Permit under section 404 of the Clean Water Act. Although the USACE provided input to the conclusions and recommendations presented in the final EIS, the USACE will present its own conclusions and recommendations in its Record of Decision for the Project.

The final EIS addresses the potential environmental effects of the construction and operation of the following Project facilities, all in the State of Tennessee:

• 122.2 miles of 30-inch-diameter pipeline in Trousdale, Smith, Jackson, Putnam, Overton, Fentress, Morgan, and Roane Counties, including 4.0 miles of header pipeline and 118.2 miles of mainline pipeline (collectively referred to as the Mainline);

• a new 14,600-horsepower, electric-driven compressor station (Hartsville Compressor Station) and an associated solar array to partially power the facility in Trousdale County;

• a new meter and regulating station to receive gas from Columbia Gulf Transmission, LLC in Trousdale County;

• modifications to two existing meter and regulating stations to receive gas from Texas Eastern Transmission, LP and Midwestern Gas Transmission Company in Trousdale County;

• a new delivery meter station to measure gas delivered to the Kingston Fossil Plant in Roane County; and

• related appurtenances.

East Tennessee also proposes to remove approximately 24 miles of previously abandoned-in-place pipe segments along East Tennessee's existing 22-inch-diameter Line 3100-1 associated with various prior pipeline replacement projects. East Tennessee would relay the new 30-inch-diameter Mainline pipe into the same trench.

The Commission mailed a copy of the Notice of Availability to Federal and State resources agencies, elected officials, environmental groups and non-governmental organizations, Native American Tribes, potentially affected landowners, local libraries and newspapers, and other stakeholders. The final EIS is only available in electronic format. It may be viewed and downloaded from FERC's website (www.ferc.gov), on the natural gas environmental documents page (https://www.ferc.gov/industries-data/natural-gas/environment/environmental-documents). In addition, the final EIS may be accessed by using the eLibrary link on FERC's website. Click on the eLibrary link (https://elibrary.ferc.gov/eLibrary/search), select “General Search,” and enter the docket number in the “Docket Number” field, excluding the last three digits (i.e. CP23-516). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding. Additional information about the Project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: December 20, 2024.
Debbie-Anne A. Reese,
Secretary.

[FR Doc. 2024-31338 Filed 12-27-24; 8:45 am]

BILLING CODE 6717-01-P